DEPARTMENT OF TRANSPORTATION

Federal Aviation Administration

Availability of Noise Compatibility Program for Chicago Rockford International Airport, Rockford, Illinois

AGENCY: Federal Aviation Administration (FAA), DOT.

ACTION: Notice.

SUMMARY: The Federal Aviation Administration (FAA) announces its determination that the updated noise exposure maps submitted by the Greater Rockford Airport Authority for the Chicago Rockford International Airport under the provisions of 49 U.S.C. 47501 et seq. (Aviation Safety and Noise Abatement Act) and 14 CFR part 150 are in compliance with applicable requirements.

DATES: This notice is effective January 22, 2014, and applicable January 13, 2014. The public comment period ends February 14, 2014.

FOR FURTHER INFORMATION CONTACT: Ms. Amy Hanson, Environmental Protection Specialist, CHI-603, Federal Aviation Administration, Chicago Airport District Office, 2300 East Devon Avenue, Des Plaines, IL 60018. Telephone number: 847-294-7354.

SUPPLEMENTARY INFORMATION: This notice announces that the FAA finds that the updated noise exposure maps submitted for Chicago Rockford International Airport are in compliance with applicable requirements of Title 14 Code of Federal Regulations (CFR) part 150. Under 49 U.S.C. 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of 14 CFR part 150, promulgated pursuant to the Act, may submit a noise compatibility program for FAA approval which sets forth the measures the operator has taken or proposes to take to reduce existing non-compatible uses and prevent the introduction of additional non-compatible uses.

The FAA has completed its review of the updated noise exposure maps and accompanying documentation submitted by Greater Rockford Airport Authority. The documentation that constitutes the “noise exposure maps” as defined in § 150.7 includes: Exhibit NEM-1, Existing (2013) Noise Exposure Map; Exhibit NEM-2, Future (2018) Noise Exposure Map; Table 2, Distribution of Average Daily Operations by Aircraft Type Existing (2013) Conditions; Exhibit 2, INM Jet Departure Flight Tracks; Exhibit 3, INM Jet Arrival Flight Tracks; Exhibit 4, INM Prop Departure Flight Tracks; Exhibit 5, INM Prop Departure Flight Tracks; Exhibit 6, INM Touch-and-Go Flight Tracks; Exhibit 8, Existing (2013) Noise Exposure Contour Compared to (Previous) Future 2008 NEM/NCP (from 2003 Study); Exhibit 11, Existing (2013) Noise Exposure Contour compared to Future (2018) Noise Exposure Contour; Table 14, Population, Housing, and Noise-Sensitive Facilities Exposed to Various Noise Levels 2018 Noise Exposure; Table 15, Supplemental Grid Analysis Report-Existing (2013) NEM Compared to Future (2018) NEM, and; Exhibit F-1, Existing Noise-Sensitive Facilities and Historic Properties.

The FAA has determined that these updated noise exposure maps and accompanying documentation are in compliance with applicable requirements. This determination is effective on January 13, 2014. FAA's determination on an airport operator's noise exposure maps is limited to a finding that the maps were developed in accordance with the procedures contained in appendix A of 14 CFR Part 150. Such determination does not constitute approval of the applicant's data, information or plans, or a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under § 150.21 that the statutorily required consultation has been accomplished.

Copies of the full updated noise exposure map documentation and of the FAA's evaluation of the maps are available for examination, upon prior appointment during normal business hours, at the following locations:

Chicago Rockford International Airport, Greater Rockford Airport Authority, 60 Airport Drive, Rockford, Illinois 61109.

Federal Aviation Administration, Chicago Airports District Office, 2300 E. Devon, Suite 320, Des Plaines, IL 60018.

Questions may be directed to the individual named above under the heading FOR FURTHER INFORMATION CONTACT.

Issued in Des Plaines, IL, January 13, 2014.
James G. Keefer,
Manager, Chicago Airports District Office, FAA Great Lakes Region.

[FR Doc. 2014-01060 Filed 1-21-14; 8:45 am]

BILLING CODE 4910-13-P